DEPARTMENT OF THE INTERIOR

Bureau of Land Management

[LLCON04000 L16100000.DP0000]

Notice of Availability of Draft Resource Management Plan and Draft Environmental Impact Statement for the Kremmling Field Office, Colorado

AGENCY: Bureau of Land Management, Interior.

ACTION: Notice of availability.

SUMMARY: In accordance with the National Environmental Policy Act of 1969, as amended, and the Federal Land Policy and Management Act of 1976 (FLPMA), as amended, the Bureau of Land Management (BLM) has prepared a Draft Resource Management Plan (RMP) and Draft Environmental Impact Statement (EIS) for the Kremmling Field Office (KFO) and by this notice is announcing the opening of the comment period.

DATES: To ensure that comments will be considered, the BLM must receive written comments on the Draft RMP/EIS within 90 days following the date the Environmental Protection Agency publishes its notice of availability of the Draft RMP/EIS in the Federal Register. The BLM will announce future meetings or hearings and any other public participation activities at least 15 days in advance through public notices, media releases and/or mailings.

ADDRESSES: You may submit comments related to the Kremmling Draft RMP/EIS by any of the following methods:

• Web site: http://www.blm.gov/rmp/co/kfo-gsfo.

• E-mail: co_kremmlingrmp@blm.gov.

• Fax: (970) 724-9590.

• Mail: Bureau of Land Management, Kremmling Field Office, RMP Comments, P.O. Box 68, 2103 East Park Avenue, Kremmling, Colorado 80459.

Copies of the Kremmling Draft RMP/EIS are available in the KFO at the above address.

FOR FURTHER INFORMATION CONTACT: Dennis Gale, RMP Project Manager, telephone (970) 724-3003; see address above; e-mail ddgale@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The Draft RMP/EIS addresses public lands and resources managed by the KFO in Grand, Jackson, Summit and parts of Larimer and Eagle counties, Colorado. These lands are currently managed under the 1984 Kremmling RMP, as amended. The planning area includes approximately 378,000 BLM-administered surface acres and approximately 653,450 subsurface acres of Federal mineral estate that will be subject to this Draft RMP/EIS. Decisions in the Draft RMP/EIS will only apply to BLM-administered public lands and federally-owned subsurface mineral estate.

The Colorado River Valley Field Office and the KFO were originally jointly revising their respective RMPs. Since the two field offices border one another and share some common issues, a combined planning effort was an efficient way to complete the first stages of the plan revisions, such as public scoping and Wild and Scenic River studies. However, given the complexity of the RMP revisions and in response to cooperating agency and internal BLM comments, each field office will issue separate Draft RMP/EISs, and the planning efforts for the two field offices will continue as separate processes on separate schedules.

The Draft RMP/EIS proposes and analyzes four alternatives for future management of the public lands and resources in the planning area. Alternative A (No Action) would continue the current management situation, managing the lands under the 1984 Kremmling RMP. Alternative B (the BLM's preferred alternative) seeks to allocate limited resources among competing human interests, land uses, and conserve natural and cultural resource values by strategically addressing demands across the landscape. Alternative C emphasizes resource protection and sustaining the ecological integrity of habitats for all priority plant, wildlife and fish species, particularly the habitats needed for conserving and recovering threatened and endangered plant and animal species. Alternative D emphasizes maximizing resource production while maintaining the basic protection needed to sustain resources.

Major issues identified during the public scoping process and addressed in the Draft RMP/EIS include but are not limited to: Travel management and transportation, recreational demand and uses, lands and realty, special designations, urban interface, energy development, rangeland health/upland management, vegetation resources, wildlife resources, water/riparian resources, sagebrush habitat and species, and cultural resources. Section 202(c)(3) of FLPMA requires the Draft RMP/EIS to examine Areas of Critical Environmental Concern (ACEC) designations on BLM-administered lands. ACECs determined to meet the relevance and importance criteria were analyzed within the range of alternatives. The ACECs considered for designation are: Barger Gulch Heritage Area, Kremmling Cretaceous Ammonite Research Natural Area, Kremmling Potential Conservation Area, Kinney Creek, Laramie River, North Park Natural Area, North Sand Hills and Troublesome Creek. If designated, the BLM would limit some resource uses, as needed, to protect the relevant and important values of the ACECs. The ACEC values and resource-use limitations vary by ACEC, and the designation of ACECs themselves varies by alternative.

Consistent with the requirements found at 43 CFR 1610.2, a hearing on potential coal leasing will be combined with a public meeting that will be scheduled and announced during the comment period.

The KFO reviewed its wilderness resource inventory and ensured it was current and maintained in accordance with FLPMA. The inventory consists of wilderness, wilderness study areas and lands with wilderness characteristics. Upon reviewing its wilderness resource inventory, the KFO identified an additional 16,420 acres that possess wilderness characteristics. They were Drowsy Water (8,220 acres), Strawberry (5,830 acres) and the Troublesome Addition (2,340 acres). These additional lands were included in the Draft RMP/EIS' range of alternatives analysis, which considered the impacts of management options on and protection of their wilderness characteristics.

Please note that public comments and information, including names, street addresses and e-mail addresses will be available for public review and disclosure at the above address during regular business hours (8 a.m. to 4:30 p.m.), Monday through Friday, except holidays.

Before including your address, phone number, e-mail address, or other personal identifying information in your comment, you should be aware that your entire comment—including your personal identifying information—may be made publicly available at any time. While you can ask us in your comment to withhold your personal identifying information from public review, we cannot guarantee that we will be able to do so.

Helen M. Hankins,
Colorado State Director.

Authority : 40 CFR 1506.6, 1506.10, and 43 CFR 1610.2.

[FR Doc. 2011-23622 Filed 9-15-11; 8:45 am]

BILLING CODE 4310-JB-P